DEPARTMENT OF HEALTH AND HUMAN SERVICES

Centers for Disease Control and Prevention

Statement of Organization, Functions, and Delegations of Authority

Part C (Centers for Disease Control and Prevention) of the Statement of Organization, Functions, and Delegations of Authority of the Department of Health and Human Services (45 FR 67772-76, dated October 14, 1980, and corrected at 45 FR 69296, October 20, 1980, as amended most recently at 76 FR 15984-15985, dated March 22, 2011) is amended to reflect the reorganization of the National Center for Immunization and Respiratory Diseases, Office of Infectious Diseases, Centers for Disease Control and Prevention.

Section C-B, Organization and Functions, is hereby amended as follows: Delete in its entirety the function statements for the National Center for Immunization and Respiratory Disease (CVG) and the Office of the Director (CVG1) and insert the following:

National Center for Immunization and Respiratory Diseases (CVG). The National Center for Immunization and Respiratory Diseases (NCIRD) prevents disease, disability, and death through immunization and by control of respiratory and related diseases. In carrying out its mission, NCIRD: (1) Provides leadership, expertise, and service in laboratory and epidemiological sciences, and in immunization program delivery; (2) conducts applied research on disease prevention and control; (3) translates research findings into public health policies and practices; (4) provides diagnostic and reference laboratory services to relevant partners; (5) conducts surveillance and research to determine disease distribution, determinants, and burden nationally and internationally; (6) responds to disease outbreaks domestically and abroad; (7) ensures that public health decisions are made objectively and based upon the highest quality of scientific data; (8) provides technical expertise, education, and training to domestic and international partners; (9) provides leadership to internal and external partners for establishing and maintaining immunization, and other prevention and control programs; (10) develops, implements, and evaluates domestic and international public health policies; (11) communicates information to increase awareness, knowledge, and understanding of public health issues domestically and internationally, and to promote effective immunization programs; (12) aligns the national center focus with the overall strategic goals of CDC; and (13) implements, coordinates, and evaluates programs across NCIRD, Office of Infectious Diseases (OID), and CDC to optimize public health impact.

Office of the Director (CVG1). (1) Provides leadership, expertise, and service in laboratory and epidemiological sciences and in immunization program delivery; (2) provides diagnostic and reference laboratory services to relevant partnerships; (3) works with OID to ensure spending plans, budget planning, and budget execution are in line with the overall infectious disease strategies and priorities; (4) ensures that the NCIRD strategy is executed by the divisions and aligned with overall CDC goals; (5) co-develops execution strategies for the center with the division directors; (6) provides program and science quality oversight; (7) builds leadership at the division and branch levels; (8) evaluates the strategies, focus, and prioritization of the division research, program, and budget activities; (9) identifies and coordinates synergies between center and relevant partners; (10) ensures that policy development is consistent and appropriate; (11) facilitates research and program activities by providing leadership support; (12) proposes resource priorities throughout the budget cycle; (13) ensures scientific quality, ethics, and regulatory compliance; (14) fosters an integrated approach to research, program, and policy activities; (15) liaises with HHS and other domestic and international immunization and respiratory disease partners as well as with NCIRD divisions; (16) coordinates center's emergency response activities related to immunization issues and complex acute respiratory infectious disease emergencies; (17) applies communication science, media principles, and web design to support NCIRD and CDC's efforts to reduce morbidity and mortality caused by vaccine-preventable and respiratory diseases; ensuring that communication distributed by the center is timely, accurate, clear and relevant to intended audiences; (18) provides guidance for key scientific and laboratory services in the functional areas of extramural research (research and non-research), human studies oversight and review, regulatory affairs; activities in the area of space planning, advising, coordination and evaluation, safety management and coordination, and shared services in controlled correspondence, and programmatic services in the area of workforce and career development; (19) provides and coordinates center-wide administrative, management, and support services in the areas of fiscal management, personnel, travel, procurement, facility management, the Vaccine Management Improvement Project and other administrative services; and (20) manages the coordination of workforce development and succession planning activities and provide human capital management, planning and training consultation services.

Office of Informatics (CVG12). (1) Manages all IT project costs, schedules, performances, and risks; (2) provides expertise in leading application development techniques in information science and technology to affect the best use of resources; (3) performs technical evaluation and/or integrated baseline reviews of all information systems' products and services prior to procurement to ensure software purchases align with OID strategy; (4) provides access to quality data in support of programmatic data analysis; (5) coordinates all enterprise-wide IT security policies and procedures with the Office of the Chief Information Security Officer; (6) ensures operations are in accordance with CDC Capital Planning and Investment Control guidelines; (7) ensures adherence to CDC enterprise architecture guidelines and standards; (8) consults with users to determine IT needs and to develop strategic and action plans; and (9) participates in the evolution, identification, development, or adoption of appropriate informatics standards in conjunction with the OID.

Office of Policy (CVG13). (1) Serves as liaison with CDC/OD and other Centers/Institutes/Offices (CIO) policy offices, other government agencies, and external partners on policy, program, legislative, and budgetary issues related to NCIRD; (2) leads annual NCIRD budget formulation and development of appropriations materials; (3) provides expertise and guidance for strategic planning and performance measurement; (4) oversees and coordinates NCIRD accountability activities, including Government Accountability Office and Inspector General studies, audits and reviews; (5) coordinates NCIRD OMB Paperwork Reduction Act clearances for non-immunization waiver activities; (6) conducts legislative monitoring and analysis; (7) provides NCIRD with leadership and advice in the management of Congressional and governmental relations; (8) serves as liaison to the CDC Office of Women's Health Committee and the CDC/ATSDR Minority Initiatives Coordinating Committee; (9) supports the NCIRD divisions with developing appropriate policy capacity; and (10) manages cross-cutting policy issues within NCIRD and, as appropriate, with other CIO and OD offices within CDC.

Office of Laboratory Science (CVG14). (1) Provides leadership, expertise and service in laboratory science; (2) represents NCIRD's interests in cross-cutting laboratory services in OID which include, but are not limited to, laboratory information systems, quality management systems and bioinformatics; (3) ensures a safe working environment in NCIRD laboratories; (4) collaborates effectively with other centers and offices in carrying out its functions; and (5) manages CDC's intellectual property (e.g., patents, trademarks, copyrights) and promotes the transfer of new technology from CDC research to the private sector to facilitate and enhance the development of diagnostic products, vaccines, and products to improve occupational safety.

Office of Health Communications Science (CVG15). (1) Support NCIRD's mission through the planning, development, implementation and evaluation of science-based health communication activities and programs; (2) applies communication science, media principles, and web design to support NCIRD and CDC's efforts to reduce morbidity and mortality caused by vaccine-preventable and respiratory diseases; (3) ensures that communication distributed by the center is timely, accurate, clear and relevant to intended audiences; (4) conducts projects that translate scientific and medical information into messages for a variety of audiences using an array of media/formats; (5) improves understanding of vaccine benefits and risks among partners, health care providers and public audiences; (6) improves understanding among specialized audiences such as policy-makers, public health officials nationally and internally of the center's work; (7) supports public health partners via technical assistance and other methods; (8) demonstrates best practices in writing using plain language and health literacy principles, creating culturally appropriate materials; and (9) coordinates CDC's pandemic influenza communication preparedness activities.

Office of Administrative Services (CVG16). (1) Provides direct and daily management and execution of domestic travel processing for federal employees, Commissioned Corps and all CDC-invited guests; (2) provides direct management and execution of the administrative aspects of human resources across NCIRD, including training, and administration of policies and guidelines developed by Office of Human Resources, Atlanta Operations Center, Department of Health and Human Services, CDC Ethics Office, Financial Management Office, Office of Commissioned Corps Personnel, Center for Global Health, Office of Personnel Management, and Procurement and Grants Office; (3) provides direct management and execution of the coordination of office facilities, and supplies technical guidance and expertise regarding occupancy and facilities management to emergency situations; (4) provides direct and daily management and execution of the distribution, accountability and maintenance of CDC property and equipment; (5) provides direct management and execution of procurement requisitions, and contracts and performs administrative tasks related to initiating, processing and maintaining interagency agreements; (6) provides direct management and execution of the creation, organization, access, maintenance and disposition of CDC records, and of the establishment of policies and procedures coordinating a NCIRD response to Freedom of Information Act requests; and (7) provides direct management and execution of the coordination of logistics for Federal government committee meetings and NCIRD conferences.

Office of Science and Integrated Programs (CVG17). (1) Links strategies and priorities of the primarily programmatic-focused NCIRD divisions with those of primarily disease-based divisions; (2) facilitates development and ongoing implementation of integrated infectious respiratory disease (including influenza) surveillance, research, and prevention and control activities across the divisions, both domestically and globally, including supporting implementation of NCIRD's respiratory diseases strategic prevention priorities; (3) interfaces with other CDC CIOs working in the area of respiratory diseases; (4) coordinates and facilitates the center's overall respiratory and vaccine preventable disease scientific/research agenda; (5) assumes responsibility for the protection of human research subjects, scientific review, clearance of manuscripts and other written materials; (6) provides planning and coordination of overall surveillance strategies, preparedness, response, and prevention effectiveness related to a center-wide public health scientific agenda and in quantifying how programs and activities promote cost-effective and high impact prevention strategies with respect to immunization and other vaccine preventable disease programs; (7) provides leadership (agency and center-wide) for vaccine preventable and respiratory disease surveillance to include guidance and coordination of NCIRD surveillance activities and systems, as well as leadership on issues related to internal and external integration of CDC surveillance activities; (8) coordinates, facilitates and integrates domestic and international respiratory and vaccine preventable disease surveillance activities through existing methods while developing new approaches, tools and analyses for these activities; (9) fosters a multidisciplinary approach to epidemiology, statistics, informatics, laboratory methods and evaluation; (10) facilitates cross-cutting health services research and economic analyses in the area of vaccine preventable and respiratory diseases and immunization programs and their impact on and relationships to health insurance reform; (11) provides leadership in developing a center-wide prevention effectiveness priority agenda and facilitates the development and ongoing implementation of integrated modeling activities; (12) provides leadership in facilitating the development and implementation of the center's overarching influenza surveillance, research, and prevention strategy (pandemic and seasonal); and (13) provides leadership across the divisions with respect to linking preparedness and response elements to the overall influenza prevention and control strategy, and interfaces with other parts of CDC with respect to this strategy.

Dated: April 19, 2011.
James D. Seligman,
Acting Chief Operating Officer, Centers for Disease Control and Prevention.

[FR Doc. 2011-10503 Filed 4-29-11; 8:45 am]

BILLING CODE 4160-18-M